DEPARTMENT OF HEALTH AND HUMAN SERVICES

Office of the Secretary

[Document Identifier: HHS-OS-0990-XXXX-30D]

Agency Information Collection Activities; Proposed Collection; Public Comment Request

AGENCY: Office of the Assistant Secretary for Health, Office of Adolescent Health, HHS.

ACTION: Notice.

SUMMARY: In compliance with the requirement of section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate, below, or any other aspect of the ICR.

DATES: Comments on the ICR must be received on or before July 15, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-XXXX-30D for reference.

Information Collection Request Title: Office of Adolescent Health Teen Pregnancy Prevention, FY 2015-2020 Performance Measure Collection

Abstract: The Office of Adolescent Health (OAH), U.S. Department of Health and Human Services (HHS) is requesting approval by OMB on a new collection. In FY2015, OAH expects to award a second 5-year cohort of TPP grants. Performance Measure data collection is a requirement of all TPP grant awards and is included in the funding announcements. The measures include dissemination, partners, training, health-care linkages, sustainability, reach, dosage, fidelity, quality, and cost, reported separately by grantee/sub grantee and program model.

Need and Proposed Use of the Information: The data collection will provide OAH with the data needed to comply with accountability and federal performance requirements for the 1993 Government Performance and Results Act (Pub. L. 103-62); it will inform stakeholders of progress in meeting the goals of the program and of sustainability efforts; and it will provide OAH with metrics for monitoring TPP grantees and will facilitate grantees' continuous quality improvement in program implementation.

Likely Respondents: 137 TPP grantees and sub-grantees.

Total Estimated Annualized Burden—Hours
Forms | Type of respondent | Estimated number of respondents | Number of responses per respondent | Average burden hours per response | Total burden hours
Grantee-Level Measures: Dissemination, Number of Partners, Number of Facilitators Trained Health-Care Linkages, Sustainability | Grantee program staff | 137 | 2 | 1.25 | 342.5
Program-Level Measures: Participant Reach, Dosage, Fidelity, Cost | Grantee/Sub-awardee program staff | 137 | 2 | 6.45 | 1,767.3
Total |  |  |  |  | 2,109.8

Terry S. Clark,
Asst Information Collection Clearance Officer.

[FR Doc. 2015-14498 Filed 6-12-15; 8:45 am]

BILLING CODE 4168-11-P